DEPARTMENT OF ENERGY

Federal Energy Regulatory Commission

[ Docket No. CP02-60-007]

Trunkline LNG Company, LLC; Notice of Filing

December 12, 2005.

Take notice that on December 5, 2005, Trunkline LNG Company, LLC (Trunkline LNG), P.O. Box 4967, Houston, Texas 77210-4967, filed an abbreviated application, pursuant to section 7(c) of the Natural Gas Act (NGA) and Part 157 of the Commission's Rules and Regulations, for a Certificate of Public Convenience and Necessity requesting authorization for an amendment to increase the peak day vaporization capacity at Trunkline LNG's liquefied natural gas (LNG) terminal near Lake Charles, Louisiana, from 1,300,000 Mcf/Day to 1,500,000 Mcf/Day. The application is on file with the Commission and open for public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Trunkline LNG's customer, BG LNG, has requested the increase of regasification to facilitate the efficient and economical scheduling of ships and LNG sendout for delivery to its downstream markets. The proposed increase in peak day vaporization will not increase the number of LNG deliveries contemplated by the Expansion Project. There will be no impact on the construction or services previously authorized and currently underway. The proposal will not change the certificated level of the LNG Terminal storage capacity. Trunkline LNG proposes to provide the additional vaporization pursuant to previously approved rates and general terms and conditions of services applicable to Rate Schedules FTS and FTS-2.

Any questions regarding the application are to be directed to William W. Grygar, Vice President of Rates and Regulatory Affairs, 5444 Westheimer Road, Houston, Texas 77056-5306; phone number (713) 989-7000.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Motions to intervene, protests and comments may be filed electronically via the Internet in lieu of paper, see, 18 CFR 385.2001 (a)(1)(iii) and the instructions on the Commission's web site under the “e-Filing” link. The Commission strongly encourages electronic filings.

Comment Date: December 27, 2005.

Magalie R. Salas,
Secretary.

[FR Doc. E5-7424 Filed 12-15-05; 8:45 am]

BILLING CODE 6717-01-P